ENVIRONMENTAL PROTECTION AGENCY

[EPA-HQ-OPP-2018-0423; FRL-9991-21-OMS]

Agency Information Collection Activities; Submitted to OMB for Review and Approval; Comment Request; Soil and Non-Soil Fumigant Risk Mitigation (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): Soil and Non-Soil Fumigant Risk Mitigation (EPA ICR Number 2451.02 and OMB Control Number 2070-0197). The ICR, which is available in the docket along with other related materials, provides a detailed explanation of the collection activities and the burden estimate that is only briefly summarized in this document. This is a request to renew the approval of an existing ICR, which is currently approved through April 30, 2019. EPA previously provided a 60-day public review opportunity via the Federal Register on September 26, 2018. With this submission, EPA is providing an additional 30 days for public review.

DATES: Comments must be received on or before May 29, 2019.

ADDRESSES: Submit your comments, identified by docket identification (ID) number EPA-HQ-OPP-2018-0423, to (1) EPA online using http://www.regulations.gov (our preferred method) or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Cameo Smoot, Field and External Affairs Division, (7506P), Office of Pesticide Programs, Environmental Protection Agency, 1200 Pennsylvania Ave. NW, Washington, DC 20460-0001; telephone number: 703-305-5454, email address: smoot.cameo@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This is a request to renew the approval of an existing ICR, which is currently scheduled approved through April 30, 2019. Under OMB regulations, the Agency may continue to conduct or sponsor the collection of information while this submission is pending at OMB.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: In completing reviews of several soil and non-soil fumigants pursuant to section 4(g) of the Federal Insecticide, Fungicide, and Rodenticide Act (FIFRA), 7 U.S.C. 136a et seq., EPA determined that these fumigants are eligible for reregistration only if specific risk mitigation measures, as outlined in Reregistration Eligibility Decisions for the chemicals, are adopted and adequately implemented. This ICR addresses the paperwork activities that both users and registrants of these specific soil and non-soil fumigants must perform in order to comply with the required risk mitigation measures. Without the complete suite of measures, these soil and non-soil fumigant chemicals do not meet the requirements to be eligible for registration or reregistration under FIFRA. The programs and activities represented in this ICR are the result of the Agency exercising the authority of section 3(c)(2)(B) or section 3(c)(5) of FIFRA, which authorizes EPA to require pesticide registrants to generate and submit data to the Agency, when such data are needed to maintain an existing registration of a pesticide. Due to the high benefits of these chemicals, there could be significant economic impact if these fumigant products are no longer available.

Respondents/Affected Entities: Entities potentially affected by this ICR are soil and non-soil fumigant users, specifically certified applicators and agriculture pesticide handlers (NAICS 111000: Agriculture, Forestry, Fishing and Hunting); soil and non-soil fumigant registrants (NAICS 325300: Pesticide, Fertilizer, and Other Agricultural Chemical Manufacturing); and state and tribal lead agencies (NAICS 999200: State Government).

Respondent's obligation to respond: Mandatory.

Frequency of response: On occasion.

Estimated total number of potential respondents: 113,071.

Estimated total burden: 1,150,897 hours (per year). Burden is defined at 5 CFR 1320.3(b).

Estimated total costs: $40,131,505 (per year), includes $930,833 for annualized capital investment or maintenance and operational costs.

Changes in the estimates: There is an increase of 953,251 hours in the total estimated respondent burden compared with that currently approved by OMB. This change is discussed in more detail in the ICR and is briefly summarized here. There is a small increase in the burden hour estimate for the soil fumigation activities, from 197,646 to 198,261 hours, due to updating the estimated number of certified applicators and handlers potentially involved in soil fumigation activities. There is also an increase in burden from 0 to 952,635 hours due to the Agency's inclusion of certain non-soil fumigant risk mitigation activities. These changes are the result of a program adjustment.

Dated: April 18, 2019.
Courtney Kerwin,
Director, Regulatory Support Division.

[FR Doc. 2019-08511 Filed 4-26-19; 8:45 am]

BILLING CODE 6560-50-P